DEPARTMENT OF ENERGY

Federal Energy Regulatory Commission

Combined Notice of Filings #1

Take notice that the Commission received the following electric rate filings:

Docket Numbers: ER07-956-008.

Applicants: Entergy Services, Inc.

Description: Entergy Services, Inc. submits Service Schedule MSS-3 Bandwidth Formula Comprehensive Recalculation.

Filed Date: 9/15/14.

Accession Number: 20140915-5237.

Comments Due: 5 p.m. ET 10/6/14.

Docket Numbers: ER08-1056-007.

Applicants: Entergy Services, Inc.

Description: Entergy Services, Inc. submits Service Schedule MSS-3 Bandwidth Formula Comprehensive Recalculation.

Filed Date: 9/15/14.

Accession Number: 20140915-5236.

Comments Due: 5 p.m. ET 10/6/14.

Docket Numbers: ER14-2695-001.

Applicants: Ioway Energy, LLC.

Description: Tariff Amendment per 35.17(b): Amended MBR Filing to be effective 9/1/2014.

Filed Date: 9/18/14.

Accession Number: 20140918-5104.

Comments Due: 5 p.m. ET 10/9/14.

Docket Numbers: ER14-2750-001.

Applicants: New York State Electric & Gas Corporation.

Description: Tariff Amendment per 35.17(b): Amendment to Facilities Agreement to be effective 9/1/2014.

Filed Date: 9/18/14.

Accession Number: 20140918-5094.

Comments Due: 5 p.m. ET 10/9/14.

Docket Numbers: ER14-2900-000.

Applicants: Energetix DE, LLC.

Description: § 205(d) rate filing per 35.13(a)(2)(iii): Normal filing to be effective 9/17/2014.

Filed Date: 9/17/14.

Accession Number: 20140917-5158.

Comments Due: 5 p.m. ET 10/8/14.

Docket Numbers: ER14-2901-000.

Applicants: Energy America, LLC.

Description: § 205(d) rate filing per 35.13(a)(2)(iii): Normal filing to be effective 9/17/2014.

Filed Date: 9/18/14.

Accession Number: 20140918-5001.

Comments Due: 5 p.m. ET 10/9/14.

Docket Numbers: ER14-2902-000.

Applicants: Gateway Energy Services Corporation.

Description: § 205(d) rate filing per 35.13(a)(2)(iii): Normal filing to be effective 9/17/2014.

Filed Date: 9/18/14.

Accession Number: 20140918-5003.

Comments Due: 5 p.m. ET 10/9/14.

Docket Numbers: ER14-2903-000.

Applicants: NYSEG Solutions, LLC.

Description: § 205(d) rate filing per 35.13(a)(2)(iii): Normal filing to be effective 9/17/2014.

Filed Date: 9/18/14.

Accession Number: 20140918-5004.

Comments Due: 5 p.m. ET 10/9/14.

Docket Numbers: ER14-2904-000.

Applicants: Public Service Company of New Mexico.

Description: § 205(d) rate filing per 35.13(a)(2)(iii): Modifications to NITSA/NOA between PNM and Tri-State, Baseline Submission to be effective 9/1/2014.

Filed Date: 9/18/14.

Accession Number: 20140918-5006.

Comments Due: 5 p.m. ET 10/9/14.

Docket Numbers: ER14-2905-000.

Applicants: Public Service Company of New Mexico.

Description: Public Service Company of New Mexico submits Notice of Cancellation of Contracts Facilitating the Interconnection of the Burris Substation.

Filed Date: 9/18/14.

Accession Number: 20140918-5018.

Comments Due: 5 p.m. ET 10/9/14.

Docket Numbers: ER14-2906-000.

Applicants: Public Service Company of New Mexico.

Description: Public Service Company of New Mexico submits Notice of Cancellation of Contracts Facilitating the Interconnection of the San Fidel Substation.

Filed Date: 9/18/14.

Accession Number: 20140918-5019.

Comments Due: 5 p.m. ET 10/9/14.

Docket Numbers: ER14-2907-000.

Applicants: Southern California Edison Company.

Description: § 205(d) rate filing per 35.13(a)(2)(iii): Amended SGIA & Distribution Service Agreement with Lancaster WAD B LLC to be effective 11/18/2014.

Filed Date: 9/18/14.

Accession Number: 20140918-5032.

Comments Due: 5 p.m. ET 10/9/14.

Docket Numbers: ER14-2908-000.

Applicants: Public Service Company of New Mexico.

Description: Initial rate filing per 35.12 San Juan Generating Station Fuel and Capital Funding Agreement to be effective 7/1/2014.

Filed Date: 9/18/14.

Accession Number: 20140918-5069.

Comments Due: 5 p.m. ET 10/9/14.

Take notice that the Commission received the following electric securities filings:

Docket Numbers: ES14-50-000.

Applicants: AEP Texas Central Company.

Description: Amendment to August 29, 2014 Application Pursuant to Section 204 of the Federal Power Act for authorization to issue securities of AEP Texas Central Company.

Filed Date: 9/17/14.

Accession Number: 20140917-5168.

Comments Due: 5 p.m. ET 9/29/14.

Docket Numbers: ES14-51-000.

Applicants: AEP Texas North Company.

Description: AEP Texas North Company's amendment to August 29, 2014 Application Pursuant to Section 204 of the Federal Power Act for authorization to issue securities.

Filed Date: 9/18/14.

Accession Number: 20140918-5017.

Comments Due: 5 p.m. ET 9/29/14.

Docket Numbers: ES14-52-000.

Applicants: Consolidated Edison Company of New York, Inc.

Description: Consolidated Edison Company of New York, Inc. Exhibits C, D and E to the September 10, 2014 Section 204 Application.

Filed Date: 9/16/14.

Accession Number: 20140916-5215.

Comments Due: 5 p.m. ET 9/26/14.

Take notice that the Commission received the following electric reliability filings:

Docket Numbers: RD14-14-000.

Applicants: North American Electric Reliability Corp.

Description: Petition of the North American Electric Reliability Corporation for Approval of Proposed Reliability Standard PRC-004-3.

Filed Date: 9/15/14.

Accession Number: 20140915-5235.

Comments Due: 5 p.m. ET 10/20/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 18, 2014.
Nathaniel J. Davis, Sr.,
Deputy Secretary.

[FR Doc. 2014-23191 Filed 9-29-14; 8:45 am]

BILLING CODE 6717-01-P